DEPARTMENT OF COMMERCE

International Trade Administration

[A-583-856]

Certain Corrosion-Resistant Steel Products From Taiwan: Preliminary Results of Antidumping Duty Administrative Review and Preliminary Determination of No Shipments; 2020-2021

AGENCY: Enforcement and Compliance, International Trade Administration, Department of Commerce.

SUMMARY: The U.S. Department of Commerce (Commerce) preliminarily determines that producers/exporters subject to this review made sales of subject merchandise at less than normal value during the period of review (POR) July 1, 2020, through June 30, 2021. We further preliminarily determine that Synn Industrial Co., Ltd. (Synn) had no shipments during the POR. We invite interested parties to comment on these preliminary results.

DATES: Applicable August 5, 2022.

FOR FURTHER INFORMATION CONTACT: Kate Sliney or Matthew Palmer, AD/CVD Operations, Office III, Enforcement and Compliance, International Trade Administration, U.S. Department of Commerce, 1401 Constitution Avenue NW, Washington, DC 20230; telephone: (202) 482-2437 and (202) 482-1678, respectively.

SUPPLEMENTARY INFORMATION:

Background

Commerce is conducting an administrative review of the antidumping duty (AD) order ¹ on certain corrosion-resistant steel products (CORE) from Taiwan,² covering the following four exporters/producers: Prosperity Tieh Enterprise, Co., Ltd. (Prosperity); Sheng Yu Steel Co., Ltd. (SYSCO); Synn; and Yieh Phui Enterprise Co., Ltd. (YP). On March 29, 2022, we extended the preliminary results of this review to no later than July 29, 2022.³

¹ See Antidumping or Countervailing Duty Order, Finding, or Suspended Investigation; Opportunity to Request Administrative Review, 86 FR 35065, 35066 (July 1, 2021); see also Certain Corrosion-Resistant Steel Products from India, Italy, the People's Republic of China, the Republic of Korea and Taiwan: Amended Final Affirmative Antidumping Determination for India and Taiwan, and Antidumping Duty Orders, 81 FR 48390 (July 25, 2016) (Order).

² See Initiation of Antidumping and Countervailing Duty Administrative Reviews, 86 FR 50034, 50042-43 (September 7, 2021).

³ See Memorandum, “Certain Corrosion-Resistant Steel Products from Taiwan: Extension of Time Limit for Preliminary Results of 2020-2021 Antidumping Duty Administrative Review,” dated March 29, 2022.

For a complete description of the events that followed the initiation of this review, see the Preliminary Decision Memorandum.⁴ A list of topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, the complete Preliminary Decision Memorandum can be accessed directly at https://enforcement.trade.gov/frn/index.html.

⁴ See Memorandum, “Decision Memorandum for the Preliminary Results of the 2020-2021 Antidumping Duty Administrative Review: Certain Corrosion-Resistant Steel Products from Taiwan,” dated concurrently with, and hereby adopted by, this notice (Preliminary Decision Memorandum).

Scope of the Order

The products covered by the Order are flat-rolled steel products, either clad, plated, or coated with corrosion-resistant metals such as zinc, aluminum, or zinc-, aluminum-, nickel- or iron-based alloys, whether or not corrugated or painted, varnished, laminated, or coated with plastics or other non-metallic substances in addition to the metallic coating. For a full description of the scope of the Order, see the Preliminary Decision Memorandum.

Preliminary Determination of No Shipments

On October 7, 2021, Synn submitted a letter certifying that it had no exports or sales of subject merchandise into the United States during the POR.⁵ Currently, the record contains no information which contradicts Synn's claim, and we will revisit this issue following these preliminary results if we receive additional information from U.S. Customs and Border Protection (CBP). Therefore, we preliminarily determine that Synn did not have any reviewable transactions during the POR. Consistent with Commerce's practice, we will not rescind the review with respect to Synn, but rather will complete the review and issue instructions to CBP based on the final results.⁶

⁵ See Synn's Letter, “Corrosion-Resistant Steel Products from Taiwan; No Shipment Certification,” dated October 7, 2021.

⁶ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Methodology

Commerce is conducting this review in accordance with section 751(a)(1) and (2) of Tariff Act of 1930, as amended (the Act). Export price and constructed export price were calculated in accordance with section 772 of the Act. Normal value is calculated in accordance with section 773 of the Act. For a full description of the methodology underlying our conclusions, see the Preliminary Decision Memorandum.

Rate for Non-Selected Company

For the rate for companies not selected for individual examination in an administrative review, generally, Commerce looks to section 735(c)(5) of the Act, which provides instructions for calculating the all-others rate in a less-than-fair-value (LTFV) investigation. Under section 735(c)(5)(A) of the Act, the all-others rate is normally “an amount equal to the weighted average of the estimated weighted-average dumping margins established for exporters and producers individually investigated, excluding any zero or de minimis margins, and any margins determined entirely {on the basis of facts available}.” In this administrative review, we calculated a weighted-average dumping margin each for Prosperity and YP that is not zero, de minimis, or based on total facts available. The weighted-average dumping margin calculated for SYSCO, the non-selected company, is an average of the weighted-average dumping margins of the two mandatory respondents weighted by the publicly ranged U.S. sales values of the mandatory respondents.⁷

⁷ See Memorandum, “Calculation of Non-Selected Rate in Preliminary Results,” dated concurrently with this notice; see also Ball Bearings and Parts Thereof from France, Germany, Italy, Japan, and the United Kingdom: Final Results of Antidumping Duty Administrative Reviews, Final Results of Changed-Circumstances Review, and Revocation of an Order in Part, 75 FR 53661, 53663 (September 1, 2010).

Preliminary Results of Review

Commerce preliminarily determines the following weighted-average dumping margins exist for the period July 1, 2020, through June 30, 2021:

Exporter/producer | Estimated weighted- average dumping margin (percent)
Prosperity Tieh Enterprise Co., Ltd | 6.46
Sheng Yu Steel Co., Ltd | 5.83
Yieh Phui Enterprise Co., Ltd | 4.63

Assessment Rates

Upon issuance of the final results, Commerce shall determine, and CBP shall assess, antidumping duties on all appropriate entries covered by this review. For any individually examined respondents whose weighted-average dumping margin is above de minimis (i.e., 0.50 percent), we will calculate importer-specific ad valorem AD assessment rates based on the ratio of the total amount of dumping calculated for the importer's examined sales to the total entered value of those same sales in accordance with 19 CFR 351.212(b)(1).⁸ We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to ADs. The assessment rate for ADs for SYSCO, which was not selected for individual examination, will be equal to the weighted-average dumping margin identified in the final results of review. The final results of this review shall be the basis for the assessment of ADs on entries of merchandise covered by the final results of this review and for future deposits of estimated duties, where applicable.⁹

⁸ In these preliminary results, Commerce applied the assessment rate calculation method adopted in Antidumping Proceedings: Calculation of the Weighted-Average Dumping Margin and Assessment Rate in Certain Antidumping Proceedings; Final Modification, 77 FR 8101 (February 14, 2012).

⁹ See section 751(a)(2)(C) of the Act.

In accordance with Commerce's “automatic assessment” practice, for entries of subject merchandise during the POR produced by each respondent for which they did not know their merchandise was destined for the United States, or for entries associated with Synn, which had no shipments during the POR, we will instruct CBP to liquidate entries not reviewed at the all-others rate of 3.66 percent established in the LTFV investigation ¹⁰ if there is no rate for the intermediate company(ies) involved in the transaction.¹¹ We intend to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

¹⁰ See Corrosion-Resistant Steel Products from Taiwan: Notice of Court Decision Not in Harmony with Final Determination of Antidumping Duty Investigation and Notice of Amended Final Determination of Investigation, 84 FR 6129 (February 26, 2019) (Amended Final Determination).

¹¹ For a full discussion of this practice, see Antidumping and Countervailing Duty Proceedings: Assessment of Antidumping Duties, 68 FR 23954 (May 6, 2003).

Cash Deposit Requirements

The following deposit requirements will be effective upon publication of the notice of final results of administrative review for all shipments of CORE from Taiwan entered, or withdrawn from warehouse, for consumption on or after the date of publication, as provided by section 751(a)(2) of the Act: (1) the cash deposit rate for each company listed above will be equal to the dumping margins established in the final results of this review except if the ultimate rates are de minimis within the meaning of 19 CFR 351.106(c)(1), in which case the cash deposit rates will be zero; (2) for merchandise exported by producers or exporters not covered in this administrative review but covered in a prior segment of the proceeding, the cash deposit rate will continue to be the company-specific rate published for the most recently completed segment of this proceeding in which the producer or exporter participated; (3) if the exporter is not a firm covered in this review, a prior review, or the original LTFV investigation but the producer is, the cash deposit rate will be the rate established for the most recently completed segment of the proceeding for the producer of the merchandise; and (4) the cash deposit rate for all other producers or exporters will continue to be 3.66 percent, the all-others rate established in the Amended Final Determination.¹² These cash deposit requirements, when imposed, shall remain in effect until further notice.

¹² See Amended Final Determination.

Disclosure and Public Comment

Commerce will disclose to parties to this proceeding the calculations performed in reaching the preliminary results within five days of the date of publication of these preliminary results.¹³

¹³ See 19 CFR 351.224(b).

Case briefs may be submitted to the Assistant Secretary for Enforcement and Compliance. Interested parties may submit case briefs no later than 30 days after the date of publication of this notice.¹⁴ Rebuttal briefs, limited to issues raised in the case briefs, may be filed no later than seven days after the date for filing case briefs ¹⁵ Parties who submit case briefs or rebuttal briefs in this proceeding are requested to submit with the argument: (1) a statement of the issue; (2) a summary of the argument; and (3) a table of authorities.¹⁶ All briefs must be filed electronically using ACCESS. An electronically filed document must be received successfully in its entirety by Commerce's electronic records system, ACCESS. Note that Commerce has temporarily modified certain of its requirements for serving documents containing business proprietary information, until further notice.¹⁷

¹⁴ See 19 CFR 351.309(c)(1)(ii).

¹⁵ See 19 CFR 351.309(d); see also Temporary Rule Modifying AD/CVD Service Requirements Due to COVID-19; Extension of Effective Period, 85 FR 41363 (July 10, 2020) (Temporary Rule).

¹⁶ See 19 CFR 351.309(c)(2) and (d)(2).

¹⁷ See Temporary Rule.

Interested parties who wish to request a hearing must submit a written request to the Assistant Secretary for Enforcement and Compliance, U.S. Department of Commerce, using Enforcement and Compliance's ACCESS system within 30 days of publication of this notice.¹⁸ Requests should contain the party's name, address, and telephone number, the number of participants, and a list of the issues to be discussed. If a request for a hearing is made, we will inform parties of the scheduled date for the hearing at a time and location to be determined.¹⁹ Parties should confirm by telephone the date, time, and location of the hearing.

¹⁸ See 19 CFR 351.310(c).

¹⁹ See 19 CFR 351.310.

Unless the deadline is extended pursuant to section 751(a)(3)(A) of the Act and 19 CFR 351.213(h)(2), Commerce will issue the final results of this administrative review, including the results of our analysis of the issues raised by the parties in their case briefs, not later than 120 days after the date of publication of this notice, pursuant to section 751(a)(3)(A) of the Act.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

These preliminary results of review are issued and published in accordance with sections 751(a)(1) and 777(i)(1) of the Act and 19 CFR 351.221(b)(4).

Dated: July 29, 2022.
Lisa W. Wang,
Assistant Secretary for Enforcement and Compliance.

Appendix

List of Topics Discussed in the Preliminary Decision Memorandum

I. Summary

II. Background

III. Scope of the Order

IV. Preliminary Determination of No Shipments

V. Rate for Respondent Not Selected for Individual Examination

VI. Discussion of the Methodology

VII. Currency Conversion

VIII. Recommendation

[FR Doc. 2022-16821 Filed 8-4-22; 8:45 am]

BILLING CODE 3510-DS-P